DEPARTMENT OF TRANSPORTATION

Federal Railroad Administration

[Docket Number FRA-2016-0028]

Petition for Waiver of Compliance

In accordance with part 211 of Title 49 of the Code of Federal Regulations (CFR), this document provides the public notice that by a document dated April 7, 2016, Denver Regional Transportation District Commuter Railroad (RTDC) has petitioned the Federal Railroad Administration (FRA) for a waiver of compliance from certain provisions of the Federal railroad safety regulations contained at 49 CFR part 234. FRA assigned the petition Docket Number FRA-2016-0028.

Denver Regional Transportation District Commuter Railroad (RTDC), located in Denver, Colorado, seeks a temporary waiver of compliance from 49 CFR 234.207—Adjustment, repair, or replacement of component, and 49 CFR 234.225—Activation of warning system. RTDC states that the University of Colorado's A Line is anticipated to open for passenger service on April 22, 2016. The grade crossings along that line use a Positive Train Control—(PTC) based Wireless Crossing Activation System (WCAS) to ensure constant warning times to motorists as trains approach. However, the WCAS may not be available for the first 90 days of revenue service. When WCAS is not available, warnings at grade crossings will be activated by a traditional Automatic Train Control (ATC) system with approach and island circuits. At RTDC, this will result in longer than designed warning times. The RTDC states that grade crossing attendants will be present at all grade crossings to ensure that highway traffic, pedestrians, and cyclists are monitored to deter “gate-run-arounds” until the PTC WCAS is fully tested and operational. The grade crossing attendants will meet the requirements established for an Appropriately Equipped Flagger pursuant to 49 CFR 234.5.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2016-0028) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 23, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-09242 Filed 4-20-16; 8:45 am]

BILLING CODE 4910-06-P